DEPARTMENT OF JUSTICE

Notice of Lodging of Proposed Consent Decree Under the Clean Air Act

On July 8, 2024, the Department of Justice lodged a proposed consent decree with the United States District Court for the District of Colorado in the lawsuit entitled United States and State of Colorado v. Enterprise Gas Processing, LLC, et al., Civil Action No. 1:24-cv-1878.

The United States and the State of Colorado jointly filed this lawsuit under the Clean Air Act against Defendants Enterprise Gas Processing, LLC and Enterprise Products Operating LLC, alleging violations of leak detection and repair requirements at a natural gas processing plant in Colorado. The complaint seeks injunctive relief and civil penalties for the defendants' alleged failures to monitor and repair leaking equipment at the natural gas processing plant. The consent decree requires the defendants to perform injunctive relief to address the alleged violations, and pay a $1,000,000 civil penalty. The civil penalty will be split evenly between the United States and the State of Colorado.

The publication of this notice opens a period for public comment on the consent decree. Comments should be addressed to the Assistant Attorney General, Environment and Natural Resources Division, and should refer to United States and State of Colorado v. Enterprise Gas Processing, LLC, et al., D.J. Ref. No. 90-5-2-1-11933. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

Any comments submitted in writing may be filed in whole or in part on the public court docket without notice to the commenter.

During the public comment period, the consent decree may be examined and downloaded at this Justice Department website: https://www.justice.gov/enrd/consent-decrees. If you require assistance accessing the consent decree, you may request assistance by email or mail to the addresses provided above for submitting comments.

Jason Dunn,
Assistant Section Chief, Environmental Enforcement Section, Environment and Natural Resources Division.

[FR Doc. 2024-15341 Filed 7-11-24; 8:45 am]

BILLING CODE 4410-15-P